DEPARTMENT OF COMMERCE

National Oceanic and Atmospheric Administration

Notice of Intent To Conduct Scoping and To Prepare a DEIS for the Proposed Great Lake Ontario National Marine Sanctuary

AGENCY: Office of National Marine Sanctuaries (ONMS), National Ocean Service (NOS), National Oceanic and Atmospheric Administration (NOAA), Department of Commerce (DOC).

ACTION: Notice of intent to conduct scoping, hold public scoping meetings, and prepare a draft environmental impact statement and draft management plan for the proposed designation of a national marine sanctuary.

SUMMARY: In accordance with section 304(a) of the National Marine Sanctuaries Act, as amended, (NMSA), and based on the area's qualities and boundaries described in the community-based nomination submitted to NOAA on January 17, 2017 (https://nominate.noaa.gov/nominations), NOAA is initiating a process to consider designating a portion of eastern Lake Ontario in New York as a national marine sanctuary. The designation process, as required by the NMSA, will be conducted concurrently with a public process under the National Environmental Policy Act (NEPA). This notice also informs the public that NOAA will coordinate its responsibilities under section 106 of the National Historic Preservation Act (NHPA) with its ongoing NEPA process, including the use of NEPA documents and public meetings to also meet the requirements of section 106. The public scoping process is intended to solicit information and comments on the scope and significance of issues to be addressed in an environmental analysis under NEPA that are related to designating this area as a national marine sanctuary. The results of this scoping process will assist NOAA in moving forward with the designation process and in formulating alternatives for the draft environmental impact statement and proposed regulations, including developing national marine sanctuary boundaries. It will also inform the initiation of any consultations with federal, state, or local agencies, tribes, and other interested parties, as appropriate.

DATES: Comments must be received on or before July 31, 2019. Public scoping meetings will be held as detailed below:

(1) Sterling, NY

Date: June 10, 2019

Location: Fair Haven Fire Hall

Address: 14447 Fair Haven Rd., Sterling, NY 13156

Time: 6:30-8:00 p.m.

(2) Lyons, NY

Date: June 11, 2019

Location: Emergency Operations Center

Address: 7376 Route 31, Lyons, NY 14489

Time: 6:30-8:00 p.m.

(3) Oswego, NY

Date: June 12, 2019

Location: Lake Ontario Conference Center

Address: 26 East 1st St., Oswego, NY 13126

Time: 6:30-8:00 p.m.

(4) Watertown, New York (Jefferson County)

Date: June 13, 2019

Location: Jefferson Community College

Address: 1220 Coffeen St., Jules Center, Room 6-002, Watertown, NY 13601

Time: 6:30-8:00 p.m.

ADDRESSES: Comments may be submitted by any one of the following methods:

• Electronic Submissions: Submit all electronic public comments via the Federal e-Rulemaking Portal. Go to www.regulations.gov and search for “NOAA-NOS-2019-0032”, or go to http://www.regulations.gov/#!docketDetail;D=NOAA-NOS-2019-0032 and click the “Comment Now!” icon, complete the required fields, and enter or attach your comments.

Instructions: Comments sent by any other method, to any other address or individual, or received after the end of the comment period, may not be considered by NOAA. All comments received are a part of the public record and will generally be posted for public viewing on www.regulations.gov without change. All personal identifying information (for example, name, address, etc.), confidential business information, or otherwise sensitive information submitted voluntarily by the commenter will be publicly accessible. NOAA will accept anonymous comments (enter “N/A” in the required fields if you wish to remain anonymous).

FOR FURTHER INFORMATION CONTACT: Ellen Brody, Great Lakes Regional Coordinator, 4840 S State Road, Ann Arbor, MI 48108-9719, or call 734-741-2270, or email ellen.brody@noaa.gov.

SUPPLEMENTARY INFORMATION:

I. Background

The NMSA authorizes the Secretary of Commerce (Secretary) to designate and protect as national marine sanctuaries areas of the marine environment that are of special national significance due to their conservation, recreational, ecological, historical, scientific, cultural, archeological, educational, or esthetic qualities. Day-to-day management of national marine sanctuaries has been delegated by the Secretary to ONMS. The primary objective of the NMSA is to protect the resources of the sanctuary system.

The area being considered for designation as a national marine sanctuary is a region in eastern Lake Ontario that includes approximately 1,700 square miles of lake waters and bottomlands adjacent to Jefferson, Wayne, Oswego, and Cayuga counties in the State of New York. The area is adjacent to approximately 200 miles of United States shoreline and extends north to the mid-lake international border with Canada. The area features a diverse collection of historic shipwrecks dating back to the 1700s, as well as a historic aircraft.

Eastern Lake Ontario represents a diverse array of important events in our nation's history, including military conflicts, maritime innovation, and American expansion to the west. The eastern corridor is one of the most historically significant regions in the Great Lakes and the country. Lake Ontario has dominated maritime trade and transportation for centuries, beginning with the canoes and boats of early indigenous peoples. During the colonial period, Lake Ontario was a strategic theater of conflict among European powers and the young American republic. Military actions occurred in the region during the French and Indian War, Revolutionary War, and the War of 1812. Later, this region was critical to the development of the American West and the nation's industrial core.

Vessels that historically plied Lake Ontario's waters often met with treacherous conditions, which resulted in numerous shipwrecks. The lake's cold, fresh water has preserved these wrecks, making these “submerged museums” ripe for protection, study, and interpretation. The area contains 21 known shipwrecks, 47 additional reported vessel losses, several reported aircraft losses, numerous other historic maritime-related features, and is adjacent to communities that have embraced their centuries-long relationship with Lake Ontario. The collection also includes HMS Ontario, the oldest confirmed shipwreck and the only fully intact British warship to have ever been found in the Great Lakes; at least one submerged shipwreck that has been listed, and several evaluated for listing, on the National Register of Historic Places; and a 19th Century Great Lakes cargo vessel that is recognized as the only New York State Submerged Cultural Preserve and Dive Site in Lake Ontario and Lake Erie.

II. Need for Action

On January 17, 2017, Governor Andrew Cuomo, acting on behalf of the State of New York and the Counties of Jefferson, Wayne, Cayuga, and Oswego submitted a nomination to NOAA through the Sanctuary Nomination Process (SNP) (79 FR 33851), asking NOAA to consider designating an area in eastern Lake Ontario waters as a national marine sanctuary. The nomination asks NOAA to supplement and complement work by the State of New York to enhance protection of this collection of nationally significant shipwrecks and other underwater cultural resources (e.g., aircraft, inundated prehistoric sites) in the face of evolving and expanding human use. The nomination also identifies opportunities for NOAA to expand upon existing local, county, and state efforts to study, interpret, and manage the area's unique submerged cultural resources. The nomination does not propose that the sanctuary regulate fishing, water quality, or other natural resource attributes of the area.

NOAA is initiating the process to designate this area as a national marine sanctuary based on the information included in the nomination. NOAA's review of the nomination against the criteria and considerations of the SNP indicated strong merit in proposing this area as a national marine sanctuary to protect cultural resources. The nomination was endorsed by a diverse coalition of organizations and individuals at local, state, regional, and national levels including elected officials, businesses, a federally recognized tribe, recreational users, conservation groups, fishing associations, tourism companies, museums, historical societies, and education groups. NOAA completed its review of the nomination on March 21, 2017 and added the area to the inventory of nominations that are eligible for designation. NOAA encourages the public to review the full nomination at https://nominate.noaa.gov/nominations/.

NOAA's goal in considering the designation is to protect, research, interpret, and improve public access to shipwrecks and other maritime heritage resources. Designation under the NMSA would allow NOAA to complement the State of New York's efforts to preserve this collection of nationally significant historic shipwrecks and other underwater cultural resources. Through a research and monitoring program, NOAA could use its assets to further locate, document, and monitor these significant cultural resources. Establishing a national marine sanctuary in eastern Lake Ontario could also expand education and outreach to interpret sanctuary resources for the public, as well as promote the responsible use of sanctuary resources. Furthermore, a sanctuary has the potential to increase tourism and economic opportunities in local coastal communities.

III. Process

The process for designating the Lake Ontario area as a national marine sanctuary includes the following stages:

1. Public Scoping Process— Information collection and characterization, including the consideration of public comments received during scoping;

2. Preparation of documents— Preparation and release of draft designation documents, including: A draft environmental impact statement (DEIS), prepared pursuant to the National Environmental Policy Act (NEPA), that identifies boundary alternatives; a draft management plan (DMP); and a notice of proposed rulemaking (NPRM) to define proposed sanctuary regulations. Draft documents would be used to initiate consultations with federal, state, or local agencies, tribes and other interested parties, as appropriate;

3. Public review and comment on the DEIS, DMP, and NPRM;

4. Preparation and release of a final environmental impact statement, final management plan, including a response to public comments, with a final rule and regulations, if appropriate.

5. The designation and regulations shall take effect after the end of a review period of forty-five days of a continuous session of Congress. During this same period, the Governor of the state in whose waters the sanctuary is partially or entirely located has the opportunity to concurrently review the designation.

With this notice, NOAA is initiating a public scoping process to gather information from individuals, organizations, and government agencies on the designation of the Great Lake Ontario area as a national marine sanctuary based on the community-based nomination of January 2017, especially:

(a) The spatial extent of the proposed sanctuary;

(b) the location, nature, and value of the resources that would be protected by a sanctuary;

(c) the management plan framework most appropriate to the resources in the area;

(d) the potential socioeconomic, cultural, and biological impacts of designation;

(e) threats to underwater cultural resources within the proposed sanctuary; and

(f) potential names for the new sanctuary.

IV. Consultation Under Section 106 of the National Historic Preservation Act

This notice confirms that NOAA will fulfill its responsibility under section 106 of the National Historic Preservation Act (NHPA) through the ongoing NEPA process, pursuant to 36 CFR 800.8(a) including the use of NEPA documents and public and stakeholder meetings to meet the section 106 requirements. The NHPA specifically applies to any agency undertaking that may affect historic properties. Pursuant to 36 CFR 800.16(1)(1), historic properties includes: “any prehistoric or historic district, site, building, structure or object included in, or eligible for inclusion in, the National Register of Historic Places maintained by the Secretary of the Interior. The term includes artifacts, records, and remains that are related to and located within such properties. The term includes properties of traditional religious and cultural importance to an Indian tribe or Native Hawaiian organization and that meet the National Register criteria.”

In fulfilling its responsibility under the NHPA and NEPA, NOAA intends to identify consulting parties; identify historic properties and assess the effects of the undertaking on such properties; initiate formal consultation with the State Historic Preservation Officer, the Advisory Council of Historic Preservation, federally-recognized tribes, and other consulting parties; involve the public in accordance with NOAA's NEPA procedures, and develop in consultation with identified consulting parties alternatives and proposed measures that might avoid, minimize or mitigate any adverse effects on historic properties and describe them in any environmental assessment or draft environmental impact statement.

Authority: 16 U.S.C. 1431 et seq.

Dated: April 12, 2019.
John Armor,
Director, Office of National Marine Sanctuaries.

[FR Doc. 2019-07678 Filed 4-16-19; 8:45 am]

BILLING CODE 3510-NK-P